DEPARTMENT OF ENERGY

Federal Energy Regulatory Commission

Notice of Scoping Meeting

August 4, 2000.

Take notice that the following hydroelectric application has been filed with the Commission and is available for public inspection:

a. Type of Application: A New Major License.

b. Project No.: 2042-013.

c. Date filed: January 21, 2000.

d. Applicant: Public Utility District No. 1 of Pend Oreille County.

e. Name of Project: Box Canyon Hydroelectric Project.

f. Location: On the Pend Oreille River, in Pend Oreille County, Washington and Bonner County, Idaho. About 709 acres within the project boundary are located on lands of the United States, including Kalispel Indian Reservation (493 acres), U.S. Forest Service Colville National Forest (182.93 acres), U.S. Department of Energy, Bonneville Power Administration (24.14 acres), U.S. Fish and Wildlife Service (2.45 acres), U.S. Army Corps of Engineers (5.29 acres), and U.S. Bureau of Land Management (1.44 acres).

g. Filed Pursuant to: Federal Power Act, 16 USC 791(a)-825(r).

h. Applicant Contact: Mr. Mark Cauchy, Public Utility District No. 1 of Pend Oreille County, P.O. Box 190, Newport, WA 99156; (509) 447-9331.

i. FERC Contact: Mr. Timothy J. Welch, Timothy.Welch@FERC.FED.US or telephone (202) 219-2666.

j. Deadline for filing scoping comments is September 12, 2000.

All documents (original and eight copies) should be filed with: David P. Boergers, Secretary, Federal Energy Regulatory Commission, 888 First Street, NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is not ready for environmental analysis at this time.

l. Description of the Project: The Box Canyon Project is located in the northeast corner of Washington state in Pend Oreille County. The project dam is located at river mile 34.4 from the Pend Oreille River's confluence with the Columbia River. The site is 13 miles from the Canadian border, 14 miles from the Idaho border, and 90 miles north of the city of Spokane, WA. The existing Box Canyon Project consists of: (1) 46-foot-high, 160-foot-long reinforced concrete dam with integral spillway, (2) 217-foot-long, 35-foot-diameter diversion tunnel, (3) 1,170-foot-long forebay channel, (4) auxiliary spillway, (5) powerhouse containing four generating units with a combined capacity of 72 MW, (6) 8,850-acre reservoir at maximum operating pool elevation of 2030.6 feet, and other associated facilities. PUD No. 1 operates the project in a run-of-river mode.

PUD No. 1 proposes to upgrade all four turbines with new high efficiency, fish-friendly runners and to rewind the four generators to increase generating capacity to 90 MW. No new structures will be built and no construction in the river will be required. No operational changes will be needed although peak flow through each turbine will be increased from 6,850 cfs to 8,100 cfs which will ultimately result in an 8% increase in average annual energy output.

m. Locations of the application: A copy of the application is available for inspection and reproduction at the Commission's Public Reference Room, located at 888 First Street, NE, Room 2A, Washington, DC 20246, or by calling (202) 208-1371. This filing may be viewed on the web at http://www.ferc.fed.us/online/rims.htm [or call (202) 208-2222 for assistance]. A copy is also available for inspection and reproduction at the address in item h. above.

Scoping Process

The Commission intends to prepare an Environmental Impact Statement (EIS) for the proposed relicensing of the Box Canyon Hydroelectric Project (FERC No. 2042-013) The EIS will consider both site-specific and cumulative environmental impacts and reasonable alternatives to the proposed action.

Scoping Meeting

In addition to the two scoping meetings on August 14th and August 16th identified in the July 14, 2000 Notice, a third meeting will be held at 9:00 am on August 17, 2000 in the Kalispel Tribal Council Chambers at 1981 North Le Clair St, Usk, WA. This meeting will focus on the concerns of the Kalispel Tribe to assist the staff in identifying the scope of the environmental issues that should be analyzed in the EIS.

To facilitate discussions, a Scoping Document (SDI) outlining the subject areas to be addressed in the EIS, was previously distributed to parties on the Commission's mailing list.

Objectives

At this meeting, the staff will: (1) Summarize the environmental issues tentatively identified for analysis in the EIS; (2) solicit from the participants all available information, especially quantifiable data, on the resources at issue; (3) encourage statements from interested parties on issues that should be analyzed in the EIS, including viewpoints in opposition to, or in support of, the staff's preliminary views; (4) determine the resource issues to be addressed in the EIS; and (5) identify those issues that require a detailed analysis, as well as those issues that do not require a detailed analysis.

Procedures

If you are interested in attending this meeting, please contact Leslie Smythe at (781) 444-3331 ext. 481 before August 15, 2000.

David P. Boergers,
Secretary.

[FR Doc. 00-20202 Filed 8-9-00; 8:45 am]

BILLING CODE 6717-01-M